POSTAL REGULATORY COMMISSION

[Docket Nos. MC2012-5, CP2012-10 and CP2012-11; Order No. 1111]

New Postal Product

AGENCY: Postal Regulatory Commission.

ACTION: Notice.

SUMMARY: The Commission is noticing a recently filed Postal Service request to add Global Plus 2C Contracts to the competitive product list. This notice addresses procedural steps associated with the filing.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at (202) 789-6820 (case-related information) or DocketAdmins@prc.gov (electronic filing assistance).

SUPPLEMENTARY INFORMATION:

Introduction. The Commission hereby provides notice that the Postal Service has filed a request to add Global Plus 2C Contracts, consisting of two Global Plus 2C agreements, to the competitive products list.¹ The new product covers rates for a combination of Global Bulk Economy (GBE) and Global Direct (GD) for high-volume mailers or Postal Qualified Wholesalers. Id. Attachment A-3. The instant agreements are set to begin January 16, 2012 upon the expiration of customers' current customized (Global Plus 2B) agreements. Id. at 5.

¹ Request of the United States Postal Service to Add Global Plus 2C to the Competitive Products List and Notice of Filing Two Functionally Equivalent Global Plus 2C Contracts Negotiated Service Agreements and Application for Non-Public Treatment of Materials Filed Under Seal, December 30, 2011 (Notice). See also Errata (January 5, 2012) presenting revised Mail Classification Schedule (MCS). The Notice was filed pursuant to 39 U.S.C. 3642, 39 CFR 3020.30 et seq., and Order No. 112. The filing includes Global Plus 1C contracts, which are the subject of Docket Nos. MC2012-6, CP2012-10 and CP2012. See Notice, Attachment 1 at 1.

Documentation. The Postal Service has filed the contracts, along with certain supporting documents, under seal. Attachment 1 to the Notice is an application for non-public treatment of this material. See id. Attachment 1 at 1 and n. 4. Attachments 2 though 4 consist of the pertinent Governors' Decisions; revised Mail Classification Schedule language; certifications and a statement required under Commission rules; and contracts.

Postal Service representations. The Postal Service asserts that its filing establishes that the new Global Plus 2C contracts are in compliance with the requirements of 39 U.S.C. 3633; fit within the proposed MCS language for Global Plus Contracts based on the controlling Governors' Decisions; and are functionally equivalent to each other.² It therefore requests that Global Plus 2C be added to the competitive product list; that the contracts included in this filing be included within the Global Plus 2C product; and that these contracts be considered the baseline agreements for future functionally equivalency analyses for the Global Plus 2C product. Id. at 9-10.

² Governors' Decision No. 08-10 authorizes Global Plus 2 contracts. Governors' Decision No. 11-6 authorizes Postal Service management to prepare any necessary product description, including Mail Classification Schedule text, and to present such description to the Commission.

Initial Commission action. The Commission establishes three related dockets, designated as Docket Nos. MC2012-5, CP2012-10, and CP2012-11, to consider matters raised in the Notice. The Commission strongly encourages those interested in the Postal Service's proposal to review the filing in its entirety, including the proposed revisions to the MCS. Public portions of the Postal Service's filing can be accessed via the Commission's Web site, www.prc.gov. Commission rule 3007.40 (39 CFR 3007.40) addresses procedures for obtaining access to non-public information. Interested persons may submit comments on whether adding Global Plus 2C to the competitive product list is consistent with the policies of 39 U.S.C. 3632 or 3633 and 39 CFR part 3015. The date for filing comments and the designated Public Representative are identified in the ordering paragraphs.

It is ordered:

1. The Commission establishes Docket Nos. MC2012-5, CP2012-10, and CP2012-11 to consider matters raised by the Postal Service's Notice.

2. Comments by interested persons in these proceedings are due no later than January 11, 2012.

3. Pursuant to 39 U.S.C. 505, James F. Callow is appointed to serve as the officer of the Commission (Public Representative) to represent the interests of the general public in these proceedings.

4. The Secretary shall arrange for publication of this order in the Federal Register.

By the Commission.
Shoshana M. Grove,
Secretary.

[FR Doc. 2012-486 Filed 1-11-12; 8:45 am]

BILLING CODE 7710-FW-P